DEPARTMENT OF ENERGY

Federal Energy Regulatory Commission

Combined Notice of Filings No. 1

Take notice that the Commission received the following electric corporate filings:

Docket Numbers: EC11-36-000

Applicants: BP Wind Energy North America Inc., Dominion Fowler Ridge Wind II, LLC

Description: Supplemental Information of BP Wind Energy North America Inc. and Dominion Fowler Ridge Wind II, LLC.

Filed Date: 02/18/2011

Accession Number: 20110218-5153

Comment Date: 5 p.m. Eastern Time on Monday, February 28, 2011

Docket Numbers: EC11-45-000

Applicants: Clean Energy Systems, Inc., AES Placerita, Incorporated, AES California Management Co., Inc.

Description: Application of AES California Management Co., Inc., et al. for Authorization of Transaction Pursuant to Section 203 of the Federal Power Act and Request for Confidential Treatment of Transaction Documents, Expedited Consideration and Waivers.

Filed Date: 02/18/2011

Accession Number: 20110218-5143

Comment Date: 5 p.m. Eastern Time on Friday, March 11, 2011

Take notice that the Commission received the following electric rate filings:

Docket Numbers: ER99-4124-027; ER99-4124-028

Applicants: Arizona Public Service Company

Description: Supplemental of Arizona Public Service Company.

Filed Date: 02/18/2011

Accession Number: 20110218-5145

Comment Date: 5 p.m. Eastern Time on Friday, March 11, 2011

Docket Numbers: ER10-2738-001

Applicants: The Empire District Electric Company

Description: Supplement to Notice of Non-Material Change in Status of The Empire District Electric Company.

Filed Date: 02/22/2011

Accession Number: 20110222-5109

Comment Date: 5 p.m. Eastern Time on Tuesday, March 15, 2011

Docket Numbers: ER11-2140-001

Applicants: PJM Interconnection, L.L.C.

Description: PJM Interconnection, L.L.C. submits tariff filing per 35.17(b): Supplemental filing re cost responsibility assignments, to be effective 2/15/2011.

Filed Date: 02/22/2011

Accession Number: 20110222-5156

Comment Date: 5 p.m. Eastern Time on Tuesday, March 15, 2011

Docket Numbers: ER11-2588-001

Applicants: Power Receivable Finance, LLC

Description: Power Receivable Finance, LLC submits tariff filing per 35.17(b): PRF Substitute First Revised MBR Tariff to be effective 2/28/2011.

Filed Date: 02/08/2011

Accession Number: 20110208-5154

Comment Date: 5 p.m. Eastern Time on Tuesday, March 1, 2011

Docket Numbers: ER11-2595-001

Applicants: CalPeak Power—Border LLC

Description: CalPeak Power—Border LLC submits tariff filing per 35: Border—Supplement to Notice of Non-Material Change to be effective 3/4/2011.

Filed Date: 02/22/2011

Accession Number: 20110222-5106

Comment Date: 5 p.m. Eastern Time on Tuesday, March 15, 2011

Docket Numbers: ER11-2596-001

Applicants: CalPeak Power—El Cajon LLC

Description: CalPeak Power—El Cajon LLC submits tariff filing per 35: El Cajon—Supplement to Notice of Non-Material Change to be effective 3/4/2011.

Filed Date: 02/22/2011

Accession Number: 20110222-5110

Comment Date: 5 p.m. Eastern Time on Tuesday, March 15, 2011

Docket Numbers: ER11-2597-001

Applicants: CalPeak Power—Panoche LLC

Description: CalPeak Power—Panoche LLC submits tariff filing per 35: Panoche—Supplement to Notice of Non-Material Change to be effective 3/4/2011.

Filed Date: 02/22/2011

Accession Number: 20110222-5123

Comment Date: 5 p.m. Eastern Time on Tuesday, March 15, 2011

Docket Numbers: ER11-2600-001

Applicants: CalPeak Power—Vaca Dixon LLC

Description: CalPeak Power—Vaca Dixon LLC submits tariff filing per 35: Vaca Dixon—Supplement to Notice of Non-Material Change to be effective 3/4/2011.

Filed Date: 02/22/2011

Accession Number: 20110222-5129

Comment Date: 5 p.m. Eastern Time on Tuesday, March 15, 2011

Docket Numbers: ER11-2602-001

Applicants: CalPeak Power LLC

Description: CalPeak Power LLC submits tariff filing per 35: CalPeak Power—Supplement to Notice of Non-Material Change to be effective 3/4/2011.

Filed Date: 02/22/2011

Accession Number: 20110222-5131

Comment Date: 5 p.m. Eastern Time on Tuesday, March 15, 2011

Docket Numbers: ER11-2604-001

Applicants: Commonwealth Chesapeake Company LLC

Description: Commonwealth Chesapeake Company LLC submits tariff filing per 35: Chesapeake—Supplement to Notice of Non-Material Change to be effective 3/4/2011.

Filed Date: 02/22/2011

Accession Number: 20110222-5138

Comment Date: 5 p.m. Eastern Time on Tuesday, March 15, 2011

Docket Numbers: ER11-2605-001

Applicants: Tyr Energy LLC

Description: Tyr Energy LLC submits tariff filing per 35: Tyr—Supplement to Notice of Non-Material Change to be effective 3/4/2011.

Filed Date: 02/22/2011

Accession Number: 20110222-5144

Comment Date: 5 p.m. Eastern Time on Tuesday, March 15, 2011

Docket Numbers: ER11-2608-001

Applicants: CalPeak Power—Enterprise LLC

Description: CalPeak Power—Enterprise LLC submits tariff filing per 35: Enterprise—Supplement to Notice of Non-Material Change to be effective 3/4/2011.

Filed Date: 02/22/2011

Accession Number: 20110222-5118

Comment Date: 5 p.m. Eastern Time on Tuesday, March 15, 2011

Docket Numbers: ER11-2609-001

Applicants: Tenaska Washington Partners, L.P.

Description: Tenaska Washington Partners, L.P. submits tariff filing per 35: Supplement to Request for Category 1 Status to be effective 3/4/2011.

Filed Date: 02/17/2011

Accession Number: 20110217-5104

Comment Date: 5 p.m. Eastern Time on Thursday, March 10, 2011

Docket Numbers: ER11-2921-000

Applicants: Southwestern Public Service Company

Description: Southwestern Public Service Company submits tariff filing per 35: 2-18-11_RS118 Compliance Filing SPS-Sharyland to be effective 8/1/2010.

Filed Date: 02/18/2011

Accession Number: 20110218-5139

Comment Date: 5 p.m. Eastern Time on Friday, March 11, 2011

Docket Numbers: ER11-2923-000

Applicants: Midwest Independent Transmission System Operator, Inc.

Description: Midwest Independent Transmission System Operator, Inc. submits tariff filing per 35: 02-18-11 Att. Q amendment to be effective 4/1/2011.

Filed Date: 02/18/2011

Accession Number: 20110218-5140

Comment Date: 5 p.m. Eastern Time on Friday, March 11, 2011

Docket Numbers: ER11-2924-000

Applicants: Denver Energy, LLC

Description: Denver Energy, LLC submits tariff filing per 35.12: New Company's Tarriff (Initial Tariff Baseline) to be effective 2/22/2011.

Filed Date: 02/22/2011

Accession Number: 20110222-5000

Comment Date: 5 p.m. Eastern Time on Tuesday, March 15, 2011

Docket Numbers: ER11-2925-000

Applicants: Pacific Gas and Electric Company

Description: Pacific Gas and Electric Company submits tariff filing per 35.13(a)(2)(iii): CCSF Crystal Springs Transmission Facilities Agreement to be effective 2/22/2011.

Filed Date: 02/22/2011

Accession Number: 20110222-5001

Comment Date: 5 p.m. Eastern Time on Tuesday, March 15, 2011

Docket Numbers: ER11-2926-000

Applicants: Oklahoma Gas and Electric Company

Description: Application of Oklahoma Gas and Electric Company

Filed Date: 02/18/2011

Accession Number: 20110218-5168

Comment Date: 5 p.m. Eastern Time on Friday, March 11, 2011

Docket Numbers: ER11-2927-000

Applicants: ISO New England Inc.

Description: ISO New England Inc. submits tariff filing per 35.13(a)(2)(iii): Correction to MR1—Appendix E from Baseline eTariff Filing to be effective 8/30/2010.

Filed Date: 02/22/2011

Accession Number: 20110222-5028

Comment Date: 5 p.m. Eastern Time on Tuesday, March 15, 2011

Docket Numbers: ER11-2928-000

Applicants: Florida Power & Light Company

Description: Florida Power & Light Company submits tariff filing per 35.12: FPL Rate Schedule FERC No. 318 between FPL and FKEC to be effective 12/31/9998.

Filed Date: 02/22/2011

Accession Number: 20110222-5064

Comment Date: 5 p.m. Eastern Time on Tuesday, March 15, 2011

Docket Numbers: ER11-2929-000

Applicants: PJM Interconnection, L.L.C.

Description: PJM Interconnection, L.L.C. submits tariff filing per 35: Compliance Filing, to be effective 4/25/2011.

Filed Date: 02/22/2011

Accession Number: 20110222-5065

Comment Date: 5 p.m. Eastern Time on Tuesday, March 15, 2011

Docket Numbers: ER11-2930-000

Applicants: Cleco Power LLC

Description: Cleco Power LLC submits tariff filing per 35.13(a)(2)(iii): Attachment E Feb 2011 to be effective 2/22/2011.

Filed Date: 02/22/2011

Accession Number: 20110222-5076

Comment Date: 5 p.m. Eastern Time on Tuesday, March 15, 2011

Docket Numbers: ER11-2931-000

Applicants: Commonwealth Edison Company, Commonwealth Edison Company of Indiana,

Description: Commonwealth Edison Company Notice of Termination of Rate Schedule and Joint Motion to Withdraw Pleadings and Vacate Initial Decision.

Filed Date: 02/22/2011

Accession Number: 20110222-5089

Comment Date: 5 p.m. Eastern Time on Tuesday, March 15, 2011

Docket Numbers: ER11-2932-000

Applicants: NorthWestern Corporation

Description: NorthWestern Corporation submits tariff filing per 35: Revised Attachments C and K to FERC Open Access Transmission Tariff Vol. 2 (SD) to be effective 4/10/2008.

Filed Date: 02/22/2011

Accession Number: 20110222-5130

Comment Date: 5 p.m. Eastern Time on Tuesday, March 15, 2011

Docket Numbers: ER11-2933-000

Applicants: MidAmerican Energy Company

Description: MidAmerican Energy Company submits tariff filing per 35.13(a)(2)(iii): Engineering and Procurement Agreement—Rate Schedule 117 to be effective 2/23/2011.

Filed Date: 02/22/2011

Accession Number: 20110222-5143

Comment Date: 5 p.m. Eastern Time on Tuesday, March 15, 2011

Docket Numbers: ER11-2934-000

Applicants: Public Service Company of Oklahoma, Southwestern Electric Power Company

Description: Public Service Company of Oklahoma submits tariff filing per 35.13(a)(2)(iii): 20110222 TCA Third Rev to be effective 5/1/2011.

Filed Date: 02/22/2011

Accession Number: 20110222-5173

Comment Date: 5 p.m. Eastern Time on Tuesday, March 15, 2011

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Dated: February 22, 2011.
Nathaniel J. Davis, Sr.,
Deputy Secretary.

[FR Doc. 2011-4843 Filed 3-3-11; 8:45 am]

BILLING CODE 6717-01-P